DEPARTMENT OF HEALTH AND HUMAN SERVICES

Administration on Aging

Agency Information Collection Activities; Extension of Existing Collection; Comment Request; Title VI Program Performance Report

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the Title VI Program Performance Report.

DATES: Submit written or electronic comments on the collection of information by April 24, 2006.

ADDRESSES: Submit electronic comments on the collection of information to: Yvonne.Jackson@aoa.gov.

Submit written comments on the collection of information to: Dr. Yvonne Jackson, Administration on Aging, Washington, DC 20201.

FOR FURTHER INFORMATION CONTACT: Dr. Yvonne Jackson, Director; Office of American Indian, Alaskan Native and Native Hawaiian Programs, U.S. Department of Health and Human Services, Administration on Aging, Washington, DC 20201; (202) 357-3501.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Program performance Report provides a data base for AoA to (1) monitor program achievement of performance objectives; (2) establish program policy and direction, and (3) prepare responses to Congress, the Office of Management and Budget, the General Accounting Office, other Federal departments, and public and private agencies as required by the OAA Title II sections 202(a)19 and 208; and prepare data for the Federal Interagency Task Force of Older Indians established pursuant to section 134(d) of the 1987 Amendments to the OAA.

AoA estimates the burden of this collection of information as follows: A total of not more than 729 hours per year will be required to prepare reports.

Dated: February 17, 2006.
Francis A. Burns,
Deputy Assistant Secretary for Wellness and Community Based Services.

[FR Doc. E6-2537 Filed 2-22-06; 8:45 am]

BILLING CODE 4154-01-P